ENVIRONMENTAL PROTECTION AGENCY

[EPA-HQ-OPP-2009-1017; FRL-9910-97]

Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registration has been cancelled only if such sale, distribution, or use is consistent with the terms as described in the final order.

DATES: Comments must be received on or before July 7, 2014.

ADDRESSES: Submit your comments, identified by docket identification (ID) number EPA-HQ-OPP-2009-1017, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 18 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1—Registrations With Pending Requests for Cancellation
Registration No. | Product name | Chemical name
000100-00867 | Barricade F Herbicide | Prodiamine.
000100-00879 | Barricade G Herbicide | Prodiamine.
000432-00799 | AquaPy | Piperonyl butoxide and Pyrethrins (NO INERT USE).
000464-00664 | Bioban CS-40L Preservative | 4,4-Dimethyloxazolidine.
001448-00371 | Busan 1020L | Metam-sodium.
004713-00004 | Kenya Pyrethrum Extract Crude Concentrate A | Pyrethrins (NO INERT USE).
007969-00057 | Ronilan Manufacturer's Concentrate | Vinclozolin.
007969-00085 | Ronilan EG Fungicide | Vinclozolin.
007969-00224 | Curalan EG Fungicide | Vinclozolin.
011603-00035 | Bromotril Technical | Bromoxynil octanoate.
011603-00036 | Agan Bromoxynil Technical | Bromoxynil octanoate.
011603-00048 | Nicosulfuron Technical | Nicosulfuron.
019713-00299 | Drexel Sanitizit | Phosphoric acid and Dodecylbenzenesulfonic acid.
040849-00056 | Enforcer Flea Fogger XX | MGK 264, Pyrethrins (NO INERT USE), Pyriproxyfen, and Permethrin.
046386-00002 | Prometrex Technical | Prometryn.
053883-00241 | CSI Wipe & Spray Insecticide | Stabilene, Pyrethrins (NO INERT USE), and Piperonyl butoxide.
072159-00002 | ImidaPro 2SC Systemic Insecticide | Imidacloprid.
073801-00002 | Permethrin Technical | Permethrin.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
100 | Syngenta Crop Protection, LLC, 410 Swing Road, P.O. Box 18300, Greensboro, NC 27419-8300.
432 | Bayer Environmental Science, A Division of Bayer, CropScience LP, 2 T.W. Alexander Drive, P.O. Box 12014, Research Triangle Park, NC 27709.
464 | The Dow Chemical Co., Agent: The Dow Chemical Company, 100 Larkin Center, 1650 Joseph Dr., Midland, MI 48674.
1448 | Buckman Laboratories Inc., 1256 North McLean Blvd., Memphis, TN 38108.
4713 | Pyrethrum Board of Kenya, Agent: Regwest Company, LLC, 8203 West 20th Street, Suite A, Greeley, CO 80634-4696.
7969 | BASF Corporation, Agricultural Products, 26 Davis Drive,, P.O. Box 13528, Research Triangle Park, NC 27709-3528.
11603 | Agan Chemical Manufacturing, LTD, Agent: Makhteshim-Agan of North America Inc., 3120 Highwoods Blvd., Suite 100, Raleigh, NC 27604.
19713 | Drexel Chemical Company, P.O. Box 13327, Memphis, TN 38113-0327.
40849 | ZEP Commercial Sales & Service, A Unit of Zep, Inc., Agent: Compliance Services, 1259 Seaboard Industrial Blvd. NW., Atlanta, GA 30318.
46386 | Verolit Chemical Manufacturers LTD., Agent: Makhteshim-Agan of North America Inc., 3120 Highwoods Blvd., Suite 100, Raleigh, NC 27604.
53883 | Control Solutions, Inc., 5903 Genoa-Red Bluff Road, Pasadena, TX 77507-1041.
72159 | Agrisel USA, Inc., Agent: Biologic, Inc., 115 Obtuse Hill Road, Brookfield, CT 06804.
73801 | Tagros Chemicals India LTD., Agent: Biologic, Inc., 115 Obtuse Hill Road, Brookfield, CT 06804.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

A. For Products (000464-00664, 011603-00048 and 053883-00241)

The registrants have indicated to the Agency via written response that there is no existing stocks of technical or end use products. Therefore, no existing stocks date is necessary. Registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled product.

B. For Products (007969-00057, 007969-00085 and 007969-00224)

The registrant has indicated to the Agency via letter and verbal communication, that all registrations for the active ingredient vinclozolin will be phased out. Because the Agency has identified no significant potential risk concerns associated with these pesticide products, EPA anticipates allowing registrants to sell and distribute existing stocks of these products until December 31, 2016. Thereafter, registrants, and persons other than registrants, are prohibited from selling or distributing existing stocks of products containing vinclozolin identified in Table 1 of Unit II., except for export consistent with FIFRA section 17 or for proper disposal. Existing stocks of products containing vinclozolin already in the hands of users can be used legally until such stocks are exhausted, provided that the use is consistent with the terms of the previously approved labeling on, or that accompanied, the cancelled products.

C. For All Other Products identified in Table 1 of Unit II

Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

List of Subjects

Environmental protection, Pesticides and pests.

Dated: May 27, 2014.
Richard P. Keigwin, Jr.,
Director, Pesticide Re-Evaluation Division, Office of Pesticide Programs.

[FR Doc. 2014-12922 Filed 6-3-14; 8:45 am]

BILLING CODE 6560-50-P